DEPARTMENT OF COMMERCE

National Oceanic and Atmospheric Administration

[I.D. 021804D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Magnuson-Stevens Reauthorization Committee and Research Steering Oversight Committee in March 2004 to consider actions affecting New England fisheries in the exclusive economic zone (EEZ). Recommendations from these groups will be brought to the full Council for formal consideration and action, if appropriate.

DATES: The meetings will be held on March 12 and 17, 2004. See SUPPLEMENTARY INFORMATION for specific dates and times.

ADDRESSES: These meetings will be held at the Sheraton Colonial, One Audubon Road, Wakefield, MA 01880; telephone: (781) 245-9300.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: Friday, March 12, 2004 at 9:30 a.m. - Magnuson-Stevens Reauthorization Committee Meeting.

The Magnuson-Stevens Reauthorization Committee will review the 2004 discussion/staff draft bills released by Senator Olympia Snowe and Congressman Wayne Gilchrest, in addition to any other information that is relevant to reauthorization of the Magnuson-Stevens Fishery Conservation and Management Act (Magnuson-Stevens Act).

Wednesday, March 17, 2004 at 9:30 a.m. - Research Steering Oversight Committee Meeting.

The Research Steering Oversight Committee will have a presentation on the status of the NMFS-funded cod-tagging program in the Northeast from an informal perspective to ensure project objectives are being met. The Committee will also complete work on a policy to incorporate new research results into the management process and initiate development of a policy concerning the disposition of catch and the use of days-at-sea when vessels are engaged in cooperative research. Finally, the Committee will finalize a list of priorities and activities for 2004.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council’s intent to take final action to address the emergency.

Special Accommodations

These meetings are physically accessible to people with disabilities. Requests for sign language interpretation or other auxiliary aids should be directed to Paul J. Howard (see ADDRESSES) at least 5 days prior to the meeting dates.

Dated: February 19, 2004.
Peter H. Fricke,
Acting Director, Office of Sustainable Fisheries, National Marine Fisheries Service.

[FR Doc. 04-4273 Filed 2-25-04; 8:45 am]

BILLING CODE 3510-22-S